DEPARTMENT OF COMMERCE

National Oceanic and Atmospheric Administration

[RTID 0648-XD661]

Research Track Assessment for Applied State Space Modeling

AGENCY: National Marine Fisheries Service (NMFS), National Oceanic and Atmospheric Administration (NOAA), Commerce.

ACTION: Notice of public meeting.

SUMMARY: NMFS will convene the Research Track Assessment Peer Review Meeting for the purpose of reviewing Applied State Space Modeling. The Research Track Assessment Peer Review is a formal scientific peer-review process for evaluating and presenting results to assessment scientists and fisheries managers. Materials are prepared by the research track working group and reviewed by an independent panel of stock assessment experts from the Center of Independent Experts. The public is invited to attend the presentations and discussions between the review panel and the scientists who have participated in the process.

DATES: The public portion of the Research Track Assessment Peer Review Meeting will be held from February 12, 2024, through February 15, 2024. The meeting will conclude on February 15, 2024, at 4 p.m. Eastern Standard Time. Please see SUPPLEMENTARY INFORMATION for the daily meeting agenda.

ADDRESSES: The meeting will be held in person and virtually. The in person meeting will be held in the S.H. Clark Conference Room in the Aquarium Building of the National Marine Fisheries Service, Northeast Fisheries Science Center (NEFSC), 166 Water Street, Woods Hole, MA 02543 and virtually using this Google Meet link: https://meet.google.com/fhd-msfm-pzz.

FOR FURTHER INFORMATION CONTACT: Michele Traver, 508-495-2195, michele.traver@noaa.gov.

SUPPLEMENTARY INFORMATION: For further information, please visit the NEFSC website at https://www.fisheries.noaa.gov/new-england-mid-atlantic/population-assessments/fishery-stock-assessments-new-england-and-mid-atlantic. For additional information about research track assessment peer review, please visit the NEFSC web page at https://www.fisheries.noaa.gov/event/applied-state-space-modeling-2023-research-track-peer-review.

Daily Meeting Agenda—Research Track Peer Review Meeting

The agenda is subject to change; all times are approximate and may be changed at the discretion of the Peer Review Chair.

Monday, February 12, 2024
Time | Topic | Presenter(s) | Notes
9 a.m.-9:15 a.m | Welcome/Logistics Introductions/Agenda/Conduct of Meeting | Michele Traver, Assessment Process Lead Kristan Blackhart, Population Dynamics (PopDy) Branch Chief Yong Chen, Panel Chair
9:15 a.m.-10 a.m | Introduction/Executive Summary | Tim Miller, Working Group (WG) chair | Review current use of state-space models in management, WG findings and recommendations.
10 a.m.-11 a.m | Terms of Reference (TOR) #5: Gulf of Maine (GOM) haddock | Charles Perretti | Working Paper (WP) 5.1: Simple transition from Age-Structured Assessment Program (ASAP) to Woods Hole Assessment Model (WHAM).
11 a.m.-11:15 a.m | Break
11:15 a.m.-12:15 p.m | TOR #5: George's Bank (GB) winter flounder | Alex Hansell | WP 5.2: Simple transition from ASAP to WHAM.
12:15 p.m.-1:15 p.m | Lunch
1:15 p.m.-2:15 p.m | TOR #5: Redfish | Brian Linton | WP 5.3: Simple transition from ASAP to WHAM.
2:15 p.m.-3:15 p.m | TOR #5: Mackerel | Kiersten Curti, Alex Hansell | WP 5.4: Simple transition from ASAP to WHAM.
3:15 p.m.-3:30 p.m | Break
3:30 p.m.-4 p.m | Discussion/Summary | Review Panel
4 p.m.-4:15 p.m | Public Comment | Public
4:15 p.m | Adjourn

Tuesday, February 13, 2024
Time | Topic | Presenter(s) | Notes
9 a.m.-9:05 a.m | Welcome/Logistics/Agenda | Michele Traver, Assessment Process Lead; Yong Chen, Panel Chair
9:05 a.m.-10:45 a.m | TOR #1 | Tim Miller (WG Chair) | Miller et al. WP1.
10:45 a.m.-11 a.m | Break
11 a.m.-12 p.m | TOR #1 | Cheng Li | Li et al. WP.
12 p.m.-1 p.m | Lunch
1 p.m.-1:30 p.m | Discussion/Summary | Review Panel
1:30 p.m.-2:30 p.m | TOR #2 | Tim Miller (WG Chair) | Miller et al. WP1.
2:30 p.m.-2:45 p.m | Break
2:45 p.m.-3:45 p.m | TOR #2 | Greg Britten, Liz Brooks | Britten et al. WP.
3:45 p.m.-4 p.m | Public Comment
4 p.m.-4:30 p.m | Discussion/Review/Summary | Review Panel
4:30 p.m | Adjourn

Wednesday, February 14, 2024
Time | Topic | Presenter(s) | Notes
9 a.m.-9:05 a.m | Welcome/Logistics/Agenda | Michele Traver, Assessment Process Lead; Yong Chen, Panel Chair
9:05 a.m.-10:15 a.m | TOR #3: Environmental effects on recruitment | Greg Britten, Liz Brooks | Miller et al. WP2.
10:15 a.m.-10:30 a.m | Break
10:30 a.m.-12 p.m | TOR #3: Intro/Environmental effects on natural mortality | Tim Miller (WG Chair) | Britten et al. WP.
12 p.m.-1 p.m | Lunch
1 p.m.-2:30 p.m | TOR #3: Environmental effects on survey catchability | Amanda Hart, Alex Hansell | Hart et al. WP.
2:30 p.m.-3:15 p.m | TOR #3: Reference points in stochastic populations | Tim Miller (WG Chair) | Miller WP.
3:15 p.m.-3:30 p.m | Break
3:30 p.m.-4 p.m | Discussion/Summary | Review Panel
4 p.m.-4:30 p.m | TOR #4 | Tim Miller (WG Chair)
4:30 p.m.-4:45 p.m | Public Comment | Public
4:45 p.m.-5:15 p.m | Discussion/Review/Summary | Review Panel
5:15 p.m | Adjourn

Thursday, February 15, 2024
Time | Topic | Presenter(s) | Notes
9 a.m.-9:05 a.m | Logistics | Michele Traver, Assessment Process Lead; Yong Chen, Panel Chair
9:05 a.m.-10 a.m | Overview of panel findings | Review Panel
10 a.m.-12 p.m | Report writing
12 p.m.-1 p.m | Lunch
1 p.m.-4 p.m | Report writing
4 p.m | Adjourn

The meeting is open to the public; however, during the “Report Writing” session on Friday, February 15, 2024, the public should not engage in discussion with the Peer Review Panel.

Special Accommodations

This meeting is physically accessible to people with disabilities. Special requests should be directed to Michele Traver, via email (see FOR FURTHER INFORMATION CONTACT section).

Dated: January 17, 2024.
Everett Wayne Baxter,
Acting Director, Office of Sustainable Fisheries, National Marine Fisheries Service.

[FR Doc. 2024-01150 Filed 1-22-24; 8:45 am]

BILLING CODE 3510-22-P